DEPARTMENT OF THE INTERIOR

Bureau of Land Management

[MT-929-00-1420-HE]

Montana: Filing of Plat of Survey

AGENCY: Bureau of Land Management, Montana State Office, Interior.

ACTION: Notice.

SUMMARY: The plat of the following described land is scheduled to be officially filed in the Montana State Office, Billings, Montana, thirty (30) days from the date of this publication.

T. 27 N., R. 56 E., P.M., MT

The plat, representing the dependent resurvey of a portion of the subdivisional lines and the adjusted original meanders of the former right bank of the Missouri River, upstream, through section 7, and the subdivision of section 7 and the survey of certain division of accretion lines in section 7 and a portion of a medial line of an abandoned channel of the Missouri River, upstream, through a portion of section 7, Township 27 North, Range 56 East, Principal Meridian, Montana, was accepted October 20, 2000.

The survey was requested by the Miles City Field Office and was necessary to identify accretion to original lot 6 in section 7 of the subject township.

A copy of the preceding described plat will be immediately placed in the open files and will be available to the public as a matter of information.

If a protest against this survey, as shown on this plat, is received prior to the date of the official filing, the filing will be stayed pending consideration of the protest.

This particular plat will not be officially filed until the day after all protests have been accepted or dismissed and become final or appeals from the dismissal affirmed.

FOR FURTHER INFORMATION CONTACT: Bureau of Land Management, 5001 Southgate Drive, P.O. Box 36800, Billings, Montana 59107-6800.

Dated: October 24, 2000.
Steven G. Schey,
Chief Cadastral Surveyor, Division of Resources.

[FR Doc. 00-28266 Filed 11-2-00; 8:45 am]

BILLING CODE 4310-DN-P